DEPARTMENT OF HOUSING AND URBAN DEVELOPMENT

[Docket No. FR-5159-FA-01]

Announcement of Funding Awards for the Public Housing Neighborhood Networks Program for Fiscal Year 2007

AGENCY: Office of Public and Indian Housing, HUD.

ACTION: Announcement of Funding Awards.

SUMMARY: In accordance with section 102(a)(4)(C) of the Department of Housing and Urban Development Reform Act of 1989, this announcement notifies the public of funding decisions made by the Department for funding under the Fiscal Year (FY) 2007 Notice of Funding Availability (NOFA) for the Public Housing Neighborhood Networks Program funding for FY2007. This announcement contains the consolidated names and addresses of award recipients selected for funding based on the rating and ranking of all applications.

FOR FURTHER INFORMATION CONTACT: For questions concerning the FY2007 Public Housing Neighborhood Networks awards, contact the Office of Public and Indian Housing's Grants Management Center, Acting Director, J. David Reeves, Department of Housing and Urban Development, Washington, DC, telephone (202) 475-8906. For the hearing or speech impaired, these numbers may be accessed via TTY (text telephone) by calling the Federal Information Relay Service at 1 (800) 877-8339. (Other than the “800” TTY number, these telephone numbers are not toll-free.)

SUPPLEMENTARY INFORMATION: The authority for the $10,000,000 in one-year budget authority for Public Housing Neighborhood Networks program is found in the Departments of Veterans Affairs and Housing and Urban Development, and Independent Agencies Appropriations Act, FY 2007 (Pub. L. 110-5). The allocation of housing assistance budget authority is pursuant to the provisions of 24 CFR part 791, subpart D, implementing section 213(d) of the Housing and Community Development Act of 1974, as amended.

This program is intended to provide grants to public housing authorities (PHAs) to update and expand existing Neighborhood Networks community technology centers, or establish new Neighborhood Networks centers. These centers offer comprehensive services designed to help public housing residents achieve long-term economic self-sufficiency.

The FY2007 awards announced in this Notice were selected for funding in a competition announced in a Federal Register NOFA published on March 13, 2007 (71 FR 3382). Applications were scored based on the selection criteria in that NOFA and funding selections made based on the rating and ranking of applications.

In accordance with section 102(a)(4)(C) of the Department of Housing and Urban Development Reform Act of 1989 (103 Stat. 1987, 42 U.S.C. 3545), the Department is publishing the names, addresses, and amounts of the 40 awards made under the Public Housing Neighborhood Networks program competition.

Dated: October 31, 2008.
Paula O. Blunt,
General Deputy Assistant Secretary for Public and Indian Housing.

Recipient | Address/city/state/zip code | Amount
Housing Authority of the City of Prichard | 4559 St. Stephens Road, Eight Mile, AL 36613 | 300,000
Mobile Housing Board | 151 South Claiborne Street, Mobile, AL 36602 | 250,000
San Diego Housing Commission | 1122 Broadway, Suite 300, San Diego, CA 92101 | 300,000
Housing Authority of the City of Pueblo | 1414 North Santa Fe Avenue, 10th Floor, Pueblo, CO 81003 | 400,000
Housing Authority of the City of Meriden | 22 Church Street, Meriden, CT 06451 | 150,000
Housing Authority of the City of Fort Myers | 4224 Michigan Avenue, Fort Myers, FL 33916 | 150,000
Carrollton Housing Authority | 1 Roop Street, Carrollton, GA 30112 | 150,000
Gainesville Housing Authority | 1750 Pearl Nix Parkway, Gainesville, GA 30503 | 300,000
Housing Authority of the City of Rock Island | 227-21st Street, Rock Island, IL 61201 | 150,000
Knox County Housing Authority | 255 West Tompkins, Galesburg, IL 61401 | 300,000
Rockford Housing Authority | 223 South Winnebago Street, Rockford, IL 61102 | 400,000
Campbellsville Housing & Redevelopment Authority | 400 Ingram Avenue, Campbellsville, KY 42718 | 150,000
Housing Authority of Madisonville | 211 Pride Avenue, Madisonville, KY 42431 | 150,000
Lebanon Housing Authority | 101 Hamilton Heights, Lebanon, KY 40033 | 150,000
Louisville Metro Housing Authority | 420 South Eighth Street, Louisville, KY 40203 | 250,000
Housing Authority of Baltimore City | 417 East Fayette Street, Baltimore, MD 21202 | 599,592
Housing Authority of the City of Frederick | 209 Madison Street, Frederick, MD 21701 | 150,000
Housing Opportunities Commission of Montgomery County MD | 10400 Detrick Avenue, Kensington, MD 20895 | 400,000
Port Huron Housing Commission | 905 Seventh Street, Port Huron, MI 48060 | 300,000
Public Housing Agency of the City of Saint Paul | 555 North Wabasha Street, Suite 400, Saint Paul, MN 55102-1602 | 250,000
Housing Authority of St. Louis County | 8865 Natural Bridge Road, St. Louis, MO 63121 | 150,000
Public Housing Authority of Butte | 220 Curtis Street, Butte, MT 59701 | 150,000
Housing of the City of Durham | P.O. Box 1726, 330 East Main Street, Durham, NC 27701 | 400,000
Buffalo Municipal Housing Authority | 300 Perry Street, Buffalo, NY, 14204 | 250,000
Municipal Housing Authority of the City of Schenectady | 375 Broadway, Schenectady, NY 12305 | 200,000
New York City Housing Authority | 250 Broadway, New York, NY 10007 | 600,000
Syracuse Housing Authority | 516 Burt Street, Syracuse, NY 13202 | 200,000
Portage Metropolitan Housing Authority | 2832 State Route 59, Ravenna, OH 44266 | 300,000
Springfield Metropolitan Housing Authority | 101 West High Street, Springfield, OH 45502 | 300,000
Chester Housing Authority | 35 East 5th Street, Chester, PA 19013-4401 | 400,000
Housing Authority of the City of Providence | 100 Broad Street, Providence, RI 02903 | 250,000
Chattanooga Housing Authority | 801 North Holtzclaw Avenue, Chattanooga, TN 37404 | 400,000
Memphis Housing Authority | 700 Adams Avenue, Memphis, TN 38105 | 250,000
Housing Authority of the City of Temple | P.O. Box 1326, 700 West Calhoun, Temple, TX 76503-1326 | 150,000
Houston Housing Authority | 2640 Fountain View Drive, Suite 235E, Houston, TX 77057 | 250,000
Danville Redevelopment and Housing Authority | 135 Jones Crossing, Danville, VA 24541 | 300,000
Burlington Housing Authority | 65 Main Street, Burlington, VT 05401 | 148,669
Housing Authority of the City of Bremerton | 110 Russell Road, Bremerton, WA 98312 | 150,000
King County Housing Authority | 600 Andover Park West, Tukwila, WA 98188 | 250,000
Housing Authority of the City of Milwaukee | 809 North Broadway, Milwaukee, WI 53202 | 250,000

[FR Doc. E8-26659 Filed 11-7-08; 8:45 am]

BILLING CODE 4210-67-P